DEPARTMENT OF TRANSPORTATION

[Docket No. DOT-OST-2004-16951]

Agency Request for Reinstatement of a Previously Approved Information Collection(s): Aircraft Accident Liability Insurance

AGENCY: Office of the Secretary (OST), DOT.

ACTION: Notice and request for comments.

SUMMARY: The Department of Transportation (DOT) invites public comments on our request to the Office of Management and Budget (OMB) for approval to reinstate a previously approved information collection. The collection involves the certificates of insurance that U.S. air carriers and foreign air carriers file with DOT as evidence that they are in compliance with DOT's liability insurance requirements. We are required to publish this notice in the Federal Register by the Paperwork Reduction Act of 1995, Public Law 104-13.

DATES: Written comments should be submitted by January 9, 2012.

ADDRESSES: You may submit comments [identified by Docket No. DOT-OST-2004-16951] through one of the following methods:

• Federal eRulemaking Portal: http://www.regulations.gov. Follow the online instructions for submitting comments.

• Fax: 1-(202)-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Vanessa Balgobin, U.S. Department of Transportation, Office of the Secretary, 1200 New Jersey Avenue SE, Room W86-463, Washington, DC 20590. Phone: (202) 366-9721. Email: vanessa.balgobin@dot.gov.

SUPPLEMENTARY INFORMATION:

OMB Control Number: 2106-0030.

Title: Aircraft Accident Liability Insurance.

Form Numbers: OST Forms 6410 and 6411.

Type of Review: Reinstatement of a previously approved information collection.

Background: 49 U.S.C. 41112 provides that an air carrier may not be issued or continue to hold air carrier authority unless it has filed with DOT evidence that it possesses insurance in accordance with DOT regulations. 14 CFR Part 205 establishes procedures for filing evidence of liability insurance for air carriers, and contains the minimum requirements for air carrier accident liability insurance to protect the public from losses. This insurance information is submitted to DOT using OST Form 6410 (U.S. air carriers) or OST Form 6411 (foreign air carriers).

Currently, OST Forms 6410 and 6411 are electronically available to the public; however, they cannot be filled out electronically. DOT is proposing to amend these forms so that they can be filled out electronically and saved for future amendments. However, these amended forms will still require original signatures and may not be filed electronically with DOT. By using fillable forms, DOT expects that most respondents will reduce their response times by half.

Approximately 5,308 air carriers (4,604 U.S. and 704 foreign) are registered with DOT. Generally, air carriers file insurance certificates annually, coinciding with the term of their insurance policy. However, approximately one in three of these respondents will amend their insurance certificates during the course of the year, usually to add or remove covered aircraft. Thus, DOT expects 7,059 responses to be filed each year (6,123 U.S. and 936 foreign).

Further, DOT expects 95 percent of the responses (6,706 responses) to be completed using the fillable form, which requires 15 minutes to complete, and 5 percent of the responses (353 responses) to be completed manually requiring 30 minutes, for a total of 1,854 burden hours.

Respondents: U.S. and foreign air carriers.

Number of Respondents: 5,308.

Frequency: On occasion.

Number of Responses: 7,059.

Total Annual Burden: 1,854 hours.

Public Comments Invited: You are asked to comment on any aspect of this information collection, including (a) whether the proposed collection of information is necessary for DOT's performance; (b) the accuracy of the estimated burden; (c) ways for DOT to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC on November 2, 2011.
Lauralyn Remo,
Chief, Air Carrier Fitness Division.

[FR Doc. 2011-28879 Filed 11-7-11; 8:45 am]

BILLING CODE 4910-9X-P